DEPARTMENT OF ENERGY

Federal Energy Regulatory Commission

[Docket No. CP02-90-001]

AES Ocean Express, L.L.C.; Notice of Site Visit

May 2, 2003.

On May 8-9, 2003, the Office of Energy Projects staff will participate in pre-certification inspection of AES Ocean Express, L.L.C.'s (Ocean Express) proposed pipeline route in and offshore Broward County, Florida. We will join personnel from the Florida Department of Environmental Protection, Broward County Department of Planning and Environmental Protection, U.S. Army Corps of Engineers, and the National Marine Fisheries Service, as well as representatives of Ocean Express.

Magalie R. Salas,
Secretary.

[FR Doc. 03-11503 Filed 5-7-03; 8:45 am]

BILLING CODE 6717-01-P